DEPARTMENT OF COMMERCE

Patent and Trademark Office

[Docket No.: PTO-C-2006-0039]

Request for Comments on USPTO's Draft Strategic Plan for FY 2007-2012

AGENCY: United States Patent and Trademark Office, Commerce.

ACTION: Request for comments.

SUMMARY: The United States Patent and Trademark Office (USPTO) solicits comments on its draft strategic plan for 2007-2012. The Government Performance and Results Act of 1993 (GPRA) requires Federal agencies to establish a strategic plan covering not less than five years, and to solicit the views and suggestions of those entities potentially affected by or interested in the plan.

The USPTO's current plan, The 21st Century Strategic Plan for 2003-2008, may be viewed on the USPTO Web site at http://www.uspto.gov as can the agency's draft plan for 2007-2012.

DATES: Written comments must be received by October 6, 2006. A public forum on Strategic Plan 2007-2012 will be held on Tuesday, September 26, 2006, from 9 a.m. until noon. Those wishing to present oral comments at the forum should register no later than September 19, 2006.

ADDRESSES: The September 26, 2006 public forum will be held at USPTO Headquarters, 600 Dulany Street, Madison West, Room 10D31, Alexandria, VA 22313-1450. Those interested in presenting oral comments or written comments on the draft strategic plan should send their request or written comments to the USPTO by any of the following methods: electronically via a special e-mail address: StrategicPlanning1@uspto.gov; by fax to 571-273-0127, Attention: USPTO Strategic Plan Coordinator; by hand delivery or courier to the USPTO Strategic Plan Coordinator, 600 Dulany Street, Madison East, Room 7A45, Alexandria, VA 22313-1450; by mail sent to: The USPTO Strategic Plan Coordinator, P.O. Box 1450, Alexandria, VA 22313-1450.

To ensure timely receipt of your comments, we strongly encourage responses via e-mail, fax, or hand/courier delivery.

FOR FURTHER INFORMATION CONTACT: Joan Bolton, United States Patent and Trademark Office, by telephone at 571-272-6290.

SUPPLEMENTARY INFORMATION: GPRA requires Federal agencies to establish a strategic plan covering not less than a five-year period, and to solicit the views and suggestions of those entities potentially affected by or interested in the plan. This notice represents one in a series of consultations seeking input from a variety of sources on the USPTO's draft strategic plan. On March 14, 2006, the USPTO posted a notice on its Web site soliciting public input and establishing an e-mail box (StrategicPlanning1@uspto.gov) for the public's use in submitting suggestions, ideas and comments that the agency should consider in developing the new plan. USPTO employees also were given the opportunity to provide input, either via e-mail or anonymously via USPTO's intranet site.

The draft strategic plan for 2007-2012 is available on the USPTO's Web site at http://www.USPTO.gov. The draft plan includes the USPTO's mission statement, vision statement and a description of the strategic goals, objectives and significant actions that the USPTO plans to take in order to accomplish its mission and achieve its vision. Full details on how the USPTO plans to implement the strategic plan, including funding and performance metrics, will be included in the USPTO's fiscal year 2008 President's Budget.

The USPTO would like to receive input from a wide range of organizations (both national and international), public bodies, and other stakeholders. We especially encourage the views and suggestions of individuals and entities holding or dealing with intellectual property, and USPTO employees.

The USPTO anticipates publishing the final Strategic Plan for 2007-2012 in early calendar year 2007, and making it available on our Web site at that time.

Dated: August 21, 2006.
Jon W. Dudas,
Under Secretary of Commerce for Intellectual Property and Director of the United States Patent and Trademark Office.

[FR Doc. E6-14074 Filed 8-23-06; 8:45 am]

BILLING CODE 3510-16-P